DEPARTMENT OF THE TREASURY

Bureau of Alcohol, Tobacco and Firearms

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Alcohol, Tobacco and Firearms within the Department of the Treasury is soliciting comments concerning the Licensed Firearms Dealers Records of Acquisition, Disposition and Supporting Data.

DATES: Written comments should be received on or before February 12, 2002, to be assured of consideration.

ADDRESSES: Direct all written comments to Bureau of Alcohol, Tobacco and Firearms, Linda Barnes, 650 Massachusetts Avenue, NW., Washington, DC 20226, (202) 927-8930.

FOR FURTHER INFORMATION CONTACT: Requests for additional information or copies of the form(s) and instructions should be directed to Gary Thomas, Chief, Firearms Programs Division, 650 Massachusetts Avenue, NW., Washington, DC 20026, (202) 927-7770.

SUPPLEMENTARY INFORMATION: Title: Licensed Firearms Dealers Records of Acquisition, Disposition and Supporting Data.

OMB Number: 1512-0490.

Form Number: ATF F 4473 (5300.24) Part I(LV), Firearms Transaction Record Part I Low Volume, Over-the-Counter and ATF F 4473 (5300.25) Part II(LV), Firearms Transaction Record Part II Low Volume, Intra-State Non-Over-the-Counter.

Recordkeeping Requirement ID Number: ATF REC 7570/2.

Abstract: These records furnish specific information indispensable to ATF's mission to enforce the firearms laws and regulations. The low volume forms are used only by Federal firearms licensees disposing of 50 or fewer firearms per 12-month period. They are kept at the licensee's option, in lieu of ATF F 4473 and records of acquisition and disposition. The record retention requirement for this information collection is 20 years.

Current Actions: There are no changes to this information collection and it is being submitted for extension purposes only.

Type of Review: Extension.

Affected Public: Business or other for-profit, individuals or households.

Estimated Number of Respondents: 5,000.

Estimated Time Per Respondent: 6 minutes.

Estimated Total Annual Burden Hours: 1,042.

Request for Comments: Comments submitted in response to this notice will be summarized and/or included in the request for OMB approval. All comments will become a matter of public record. Comments are invited on: (a) Whether the collection of information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: December 5, 2001.
William T. Earle,
Assistant Director (Management) CFO.

[FR Doc. 01-30899 Filed 12-13-01; 8:45 am]

BILLING CODE 4810-31-P